DEPARTMENT OF TRANSPORTATION

Federal Aviation Administration

14 CFR Part 39

[Docket No. 2002-NM-298-AD; Amendment 39-14354; AD 2005-22-10 R1]

RIN 2120-AA64

Airworthiness Directives; Airbus Model A320-111 Airplanes, and Model A320-200 Series Airplanes

AGENCY: Federal Aviation Administration, DOT.

ACTION: Final rule; correction.

SUMMARY: This document corrects information in an existing airworthiness directive (AD) that applies to certain Airbus Model A320-111 airplanes, and Model A320-200 series airplanes. That AD currently requires a detailed inspection of the tail cone triangle to determine its position, and corrective actions if necessary. This document corrects the applicability by specifying that the AD affects only airplanes identified in Airbus Service Bulletin A320-27-1132, Revision 01, dated June 19, 2002. This correction is necessary to ensure that only affected airplanes are subject to the requirements of the AD.

DATES: Effective December 5, 2005.

The incorporation by reference of a certain publication listed in the regulations was approved previously by the Director of the Federal Register as of December 5, 2005 (70 FR 62232, October 31, 2005).

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: On October 20, 2005, the Federal Aviation Administration (FAA) issued AD 2005-22-10, amendment 39-14354 (70 FR 62232, October 31, 2005), which applies to certain Airbus Model A320-111 airplanes, and Model A320-200 series airplanes. That AD requires a detailed inspection of the tail cone triangle to determine its position, and corrective actions if necessary. That AD was prompted by a report that the tail cone triangles were not installed properly on certain airplanes during production, resulting in possible mis-rigged elevator servo-controls. The actions required by that AD are intended to prevent excessive vibrations of the elevators, which could result in reduced structural integrity and reduced controllability of the airplane.

Need for the Correction

Information obtained recently by the FAA indicates that we inadvertently changed the applicability from that specified in the Notice of Proposed Rulemaking by omitting from the statement of applicability of AD 2005-22-10 that airplanes affected by the AD are those identified in Airbus Service Bulletin A320-27-1132, Revision 01, dated June 19, 2002.

The FAA has determined that a correction to AD 2005-22-10 is necessary. The correction will revise the applicability to include a reference to Airbus Service Bulletin A320-27-1132, Revision 01, dated June 19, 2002.

Correction of Publication

This document corrects the error and correctly adds the AD as an amendment to section 39.13 of the Federal Aviation Regulations (14 CFR 39.13).

The AD is reprinted in its entirety for the convenience of affected operators. The effective date of the AD remains December 5, 2005.

Since this action reduces the number of airplanes affected by revising the applicability, it has no adverse economic impact and imposes no additional burden on any person. Therefore, the FAA has determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. Section 39.13 is amended by correctly adding the following airworthiness directive (AD):

2005-22-10 R1 Airbus: Amendment 39-14354. Docket 2002-NM-298-AD.

Applicability: Model A320-111, -211, -212, -214, -231, -232, and -233 airplanes, certificated in any category; as listed in Airbus Service Bulletin A320-27-1132, Revision 01, dated June 19, 2002.

Compliance: Required as indicated, unless accomplished previously.

To prevent excessive vibrations of the elevators, which could result in reduced structural integrity and reduced controllability of the airplane, accomplish the following:

Detailed Inspection and Corrective Action

(a) Within 800 flight hours after the effective date of this AD, perform a detailed inspection to determine the position of each tail cone triangle in accordance with the Accomplishment Instructions of Airbus Service Bulletin A320-27-1132, Revision 01, dated June 19, 2002. If the position of the tail cone triangle is not within the limits specified in the service bulletin: Within 3,500 flight hours after the inspection, re-rig the elevator servo controls to adjust the elevator neutral setting, and change the position of the tail cone triangle, in accordance with the service bulletin.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Actions Accomplished Per Previous Release of the Service Bulletin

(b) Actions accomplished prior to the effective date of this AD in accordance with Airbus Service Bulletin A320-27-1132, dated March 14, 2001, are considered acceptable for compliance with the corresponding actions required by this AD.

No Reporting Requirement

(c) Although the service bulletin specifies to submit certain information to the manufacturer, this AD does not include such a requirement.

Alternative Methods of Compliance

(d)(1) In accordance with 14 CFR 39.19, the Manager, International Branch, ANM-116, Transport Airplane Directorate, FAA, is authorized to approve alternative methods of compliance for this AD.

(2) Before using any AMOC approved in accordance with § 39.19 on any airplane to which the AMOC applies, notify the appropriate principal inspector in the FAA Flight Standards Certificate Holding District Office.

Incorporation by Reference

(e) Unless otherwise specified in this AD, the actions must be done in accordance with Airbus Service Bulletin A320-27-1132, Revision 01, excluding Appendix 01, dated June 19, 2002. This incorporation by reference was approved previously by the Director of the Federal Register as of December 5, 2005 (70 FR 62232, October 31, 2005). To get copies of this service information, contact Airbus, 1 Rond Point Maurice Bellonte, 31707 Blagnac Cedex, France. To inspect copies of this service information, go to the FAA, Transport Airplane Directorate, 1601 Lind Avenue, SW., Renton, Washington; or to the National Archives and Records Administration (NARA). For information on the availability of this material at the NARA, call (202) 741-6030, or go to http://www.archives.gov/federal_register/code_of_federal_regulations/ibr_locations.html.

Note 2: The subject of this AD is addressed in French airworthiness directive 2002-514(B) R1, dated November 13, 2002.

Effective Date

(f) The effective date of this amendment remains December 5, 2005.

Issued in Renton, Washington, on December 15, 2005.
Ali Bahrami,
Manager, Transport Airplane Directorate, Aircraft Certification Service.

[FR Doc. 05-24525 Filed 12-28-05; 8:45 am]

BILLING CODE 4910-13-P